DEPARTMENT OF THE INTERIOR

National Park Service

National Register of Historic Places; Notification of Pending Nominations and Related Actions

Nominations for the following properties being considered for listing or related actions in the National Register were received by the National Park Service before August 12, 2006.

Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by September 11, 2006.

John W. Roberts,
Acting Chief, National Register/National Historic Landmarks Program.

ARIZONA

Pima County,

Ramada House, 2801 E Camino Norberto, Tucson, 06000832.

ARKANSAS

Arkansas County

Arkansas 11, Old, Kauffman Road Segment, (Arkansas Highway History and Architecture MPS), Kauffman Rd., Stuttgart, 06000834.

Bradley County

Wilson—Martin House, 511 Bond St., Warren, 06000827

Chicot County

Fregory Dipping Vat, (Dip That Tick:Texas Tick Fever Eradication in Arkansas MPS) 122 Rogers Rd., Lake Village, 06000830

Clark County

Young, W.H., House, 316 Meador Ln., Arkadelphia, 06000842

Conway County

Seven Hollows—Petit Jean Mountain Site #1, (Rock Art Sites in Arkansas TR) Address Restricted, Winrock, 06000833

Lonoke County

Memphis to Little Rock Road—Bayou Two Prairie Segment, (Cherokee Trail of Tears MPS) Address Resticted, Brownsville, 06000836

Nevada County

Moscow Methodist Church and Cemetery, Jct. of AR 23 and AR 260, Prescott, 06000826

Pope County

Archeological site 3PP141, (Rock Art Sites in Arkansas TR) Address Restricted, Atkins, 06000837

Archeological site 3PP142, (Rock Art Sites in Arkansas TR) Address Restricted, Atkins, 06000839

Pulaski County

Arkansas Ordnance Plant Guard House, 100 Veteran's Circle, Jacksonville, 06000831

First Hotze House, 1620 S. Main St., Little Rock, 06000828

McCraw Cemetery, E of 2101 Old Military Rd., Jacksonville, 06000829

Sebastian County

Maumelle Ordnance Works Locomotive #1, 100 S 4th St., Fort Smith, 06000835

United States Air Force Locomotive #1246, 100 S. 4th St., Fort Smith, 06000840

St. Francis County

Campbell House, 305 N. Forrest St., Forrest City, 06000841

Yell County

Archeological site 3YE958, Address Restricted, Dardanelle, 06000838

FLORIDA

Pasco County

Pasco County Courthouse, 37918 Meridian Ave., Dade City, 06000843

GEORGIA

Catoosa County

Catoosa County Courthouse, (Georgia County Courthouses TR) 7694 Nashville St., Ringgold, 06000844

Effingham County

Effingham County Jail, 1002 N. Pine St., Springfield, 06000845

ILLINOIS

Champaign County

Illinois Traction Building, 41 E. University Ave., Champaign, 06000846

INDIANA

Allen County

Blume, Martin, Jr., Farm, 7311 Flutter Rd., Fort Wayne, 06000847

Hendricks County

DePew, Dr. Jeremiah and Ann Jane, House, 292 East Broadway, Danville, 06000850

Howard County

Kokomo County Club Golf Course, 1801 Country Club Dr., Kokomo, 06000854

Huntington County

Drover Town Historic District, Roughly bounded by the Little R, S. LaFontaine St., Olinger and Elm Sts., Ogan and Salamonie Ave. and Whitelock St., Huntington, 06000852

Jennings County

Walnut Street Historic District, Roughly including both sides of Walnut St. bet. State and Gum Sts., North Vernon, 06000855

Knox County

County Bridge #45, Carries Cty Rd. 229 over the White River, Wheatland, 06000856

Marion County

Marion County Bridge 0501F, 86th and 82nd St. over White River, Indianapolis, 06000853

Miami County

Elkenberry Bridge, IN 100 E over Eel R in Richland Twp., Chili, 06000848

Monroe County

Ellettsville Downtown Historic District, Roughly bounded by Main, Sale, Walnut and Association Sts., Ellettsville, 06000849

Vigo County

Wabash Avenue—East Historic District (Boundary Increase), Roughly bounded by Sixth, Ohio, Seventh and Walnut Sts., Terre Haute, 06000851

IOWA

Lee County

Sheaffer, Walter A., House, 11 High Point, Fort Madison, 06000858

Linn County

Ely School House, 1570 Rowley St., Ely, 06000859

Worth County

Northwood Central Avenue Historic District, (Iowa's Main Street Commercial Architecture MPS) Roughly, Central Ave. W near 5th St. to 9th St. on the East, Northwood, 06000857

MASSACHUSETTS

Middlesex County

Watertown High School, Old, 341 Mount Auburn St., Watertown, 06000860

MISSOURI

Greene County

Springfield Seed Co. Office and Warehouse, (Springfield MPS) 319 N. Main Ave., Springfield, 06000863

Pike County

Pike County Hospital, 2407 West Georgia St., Louisiana, 06000862

St. Louis County

Rannells, Charles S. and Mary Warder, House, 2200 Bredell, Maplewood, 06000861

NEW HAMPSHIRE

Rockingham County

Atlantic Heights Development, Concord, Crescent, Falkland, Kearsarge, Porpoise, Preble, Raleigh and Saratoga Ways, Portsmouth, 06000869

NEW JERSEY

Bergen County

Theodore Roosevelt Monument, Roosevelt Common, Riveredge Rd., Borough of Tenafly, 06000870

Ocean County

Cavalry Cottage, 100 Stafford Ave., Stafford Township, 06000871

NEW YORK

Richmond County

Orchard Shoal Light Station, Old, In Lower New York Bay, 3.5 mi. S of New Dorp Beach, Staten Island, 06000864

NORTH CAROLINA

Gates County

Eure—Roberts House, 212 W. Main St., Gatesville, 06000868

Madison County

Mars Hill College Historic District, Bet. Bailey and Cascade Sts. N and S, Mars Hill, 06000865

Mecklenburg County

Lawrence, Elizabeth, House and Garden, 348 Ridgewood Ave., Charlotte, 06000866

Nash County

Morgan School, 7427 Winters Rd., Bailey, 06000867

VIRGINIA

King William County

King William Training School, (Rosenwald Schools in Virginia MPS) 18627 King William Rd., King William, 06000872

WISCONSIN

Richland County

Bloyer Mound Group, (Late Woodland Stage in Archeological Region 8 MPS) WI 60, 1500 ft. SW of Cty Hwy 00, Orion, 06000873

WYOMING

Albany County

King, F.S., Brothers Ranch Historic District, Address Restricted, Laramie, 06000874

A request for Removal has been made for the following resources:

ARKANSAS

Carroll County

Chaney, James C., House AR 68 Osage, 89002012

Jackson County

Jackson County Jail 503 3rd St. Newport, 79003432

Jefferson County

Russell House (Thompson, Charles L., Design Collection TR) Pine Bluff, 82000852

White County

National Guard Armory Building (White County) Jct. Of Race and N. Locust Sts. Searcy, 91001178

[FR Doc. E6-14100 Filed 8-24-06; 8:45 am]

BILLING CODE 4312-51-P